DEPARTMENT OF THE INTERIOR

Bureau of Land Management

[LLAZC03000 L14300000.ES0000.241A; AZA-34593]

Notice of Realty Action; Recreation and Public Purposes Act Classification; Lease and Conveyance of Public Land, Mohave County, AZ

AGENCY: Bureau of Land Management, Interior.

ACTION: Notice of realty action.

SUMMARY: Lake Havasu City (City) in Mohave County, Arizona has filed an application to lease or purchase 280 acres of public land under the Recreation and Public Purposes (R&PP) Act, as amended, to be used for recreation and public purposes. The City proposes to use the land for a municipal golf course, multi-agency environmental and eco-educational center, community park, performing arts center, recreational support facilities, visitors' center, and hiking trails. The Bureau of Land Management (BLM) has examined the land and found it suitable to be classified for lease and/or conveyance under the provisions of the R&PP Act, as amended.

DATES: Interested parties may submit written comments regarding this proposed classification and lease or sale of this public land until May 9, 2011.

ADDRESSES: Mail written comments to Ramone B. McCoy, Field Manager, BLM Lake Havasu Field Office, 2610 Sweetwater Avenue, Lake Havasu City, Arizona 86406.

FOR FURTHER INFORMATION CONTACT: Sheri Ahrens, Realty Specialist, at above address, or by e-mail at: Sheri_Ahrens@blm.gov, or phone (928) 505-1284.

SUPPLEMENTARY INFORMATION: In accordance with Section 7 of the Taylor Grazing Act (43 U.S.C. 315(f)), and Executive Order No. 6910, the BLM has examined and found suitable to be classified for lease and subsequent conveyance under the provisions of the R&PP Act, as amended (43 U.S.C. 869 et seq.), the following described public land:

Gila and Salt River Meridian

T. 13 N., R. 20 W.,

Sec. 24, E½SW¼, E½SE¼NW¼SW¼, N½NE¼SW¼SW¼, S½N½SW¼SW¼, S½SW¼SW¼, and SE¼.

The area described contains 280 acres in Mohave County.

In accordance with the R&PP Act, Lake Havasu City filed an application to lease and/or purchase the above-described property to develop a City park and public purpose facilities. Rental and sale prices have been determined using BLM R&PP pricing guidelines. Additional detailed information pertaining to this application, plan of development, and site plans are in case file AZA 34593, located in the BLM Lake Havasu Field Office at the address above.

The land is not needed for any Federal purpose. Lease and subsequent conveyance of this land is consistent with the BLM Lake Havasu Field Office Resource Management Plan dated May 10, 2007, and would be in the public interest. Lake Havasu City has not applied for more than 640 acres for park and public purpose facilities in a year, the limit set in 43 CFR 2741.7(a)(2), and has submitted a statement in compliance with the regulations at 43 CFR 2741.4(b). Any lease and subsequent conveyance will be subject to the provisions of the R&PP Act and applicable regulations of the Secretary of the Interior. Any lease or patent of this land will also contain the following reservations to the United States:

1. Provisions of the R&PP Act, including but not limited to, the terms required by 43 CFR 2741.9;

2. A right-of-way thereon for ditches and canals constructed by the authority of the United States, Act of August 30, 1890 (43 U.S.C. 945); and

3. All mineral deposits in the land so patented, and to it, or persons authorized by it, the right to prospect for, mine, and remove such deposits from the same under applicable law and regulations to be established by the Secretary of the Interior.

Any lease or conveyance will also be subject to valid existing rights; will contain any terms or conditions required by law or regulation, including, but not limited to, any terms and conditions required by 43 CFR 2741.9; and will contain an appropriate indemnification clause protecting the United States for claims arising out of the lessee's or patentee's use, occupancy, or operations on the leased or patented lands. It will also contain any other terms or conditions deemed necessary or appropriate by the authorized officer.

As of March 25, 2011, the above-described land is segregated from appropriation under the public land laws, including the United States mining laws, except for lease and sale under the R&PP Act.

Public Comments: Interested parties may submit comments involving the suitability of the land for park and public purpose facilities. Comments on the classification are restricted to whether the land is physically suited for the proposal, whether the use will maximize future uses of the land, whether the use is consistent with local planning and zoning, or if the use is consistent with State and Federal programs.

Interested parties may also submit comments regarding the specific use proposed in the application and plan of development, whether the BLM followed proper administrative procedures in reaching its decision, or any other factor not directly related to the suitability of the land for R&PP Act use.

Before including your address, phone number, e-mail address, or other personal identifying information in your comment, you should be aware that your entire comment—including your personal identifying information—may be made publicly available at any time. While you can ask us in your comment to withhold your personal identifying information from public review, we cannot guarantee that we will be able to do so. Any adverse comments will be reviewed by the BLM State Director who may sustain, vacate, or modify this realty action. In the absence of any adverse comments, the classification will become effective on May 24, 2011. The lands will not be available for lease or conveyance until after the classification becomes effective.

(Authority: 43 CFR 2741.5)

Ramone B. McCoy,
Field Manager.

[FR Doc. 2011-7022 Filed 3-24-11; 8:45 am]

BILLING CODE 4310-32-P